DEPARTMENT OF VETERANS AFFAIRS

[OMB Control No. 2900-0510]

Agency Information Collection Activity Under OMB Review: Application for Exclusion of Children's Income

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0510”.

FOR FURTHER INFORMATION CONTACT: Maribel Aponte, Office of Enterprise and Integration, Data Governance Analytics (008), 1717 H Street NW, Washington, DC 20006, (202) 266-4688 or email maribel.aponte@va.gov. Please refer to “OMB Control No. 2900-0510” in any correspondence.

SUPPLEMENTARY INFORMATION:

Authority: 38 U.S.C. 1521, 38 U.S.C 1541.

Title: Application for Exclusion of Children's Income (VA Form 21P-0571).

OMB Control Number: 2900-0510.

Type of Review: Extension of a currently approved collection.

Abstract: VBA administers Pension Benefits, which is a needs-based benefit program for wartime Veterans, who are aged 65 or older or have a permanent and total non-service-connected disability and limited income and net worth. Eligibility is determined based on the income of and asset amounts for the Veteran and their spouse. A Veteran's or surviving spouses' rate of Improved Pension is determined by family income. Normally, the income of children who are members of the household is included in this determination. However, children's income may be excluded if it is unavailable or if consideration of that income would cause hardship. 38 U.S.C. 1521(h) and 1541(g) provide the authority for the exclusion of children's income based on unavailability or hardship. VA Form 21P-0571, Application for Exclusion of Children's Income, is used for the sole purpose of collecting the information needed to determine if the children's income is available to the beneficiary, and if it would case a hardship to consider their income.

An agency may not conduct or sponsor, and a person is not required to respond to a collection of information unless it displays a currently valid OMB control number. The Federal Register Notice with a 60-day comment period soliciting comments on this collection of information was published at 86 FR 45 on March 10, 2021 page 13791.

Affected Public: Individuals or Households.

Estimated Annual Burden: 2,025 Hours.

Estimated Average Burden per Respondent: 45 Minutes.

Frequency of Response: One time.

Estimated Number of Respondents: 2,700.

By direction of the Secretary.
Maribel Aponte,
VA PRA Clearance Officer, Office of Enterprise and Integration, Data Governance Analytics, Department of Veterans Affairs.

[FR Doc. 2021-10113 Filed 5-12-21; 8:45 am]

BILLING CODE 8320-01-P